DEPARTMENT OF ENERGY

Federal Energy Regulatory Commission

Combined Notice of Filings #1

January 25, 2011.

Take notice that the Commission received the following electric corporate filings:

Docket Numbers: EC11-38-000.

Applicants: La Paloma Generating Company, LLC.

Description: Application for Authorization for Disposition of Jurisdictional Facilities and Request for Expedited Approval of La Paloma Generating Company, LLC.

Filed Date: 01/25/2011.

Accession Number: 20110125-5174.

Comment Date: 5 p.m. Eastern Time on Tuesday, February 15, 2011.

Take notice that the Commission received the following exempt wholesale generator filings:

Docket Numbers: EG11-48-000.

Applicants: Cedar Point Wind, LLC.

Description: Notice of Self-Certification as an EWG of Cedar Point Wind, LLC.

Filed Date: 01/25/2011.

Accession Number: 20110125-5189.

Comment Date: 5 p.m. Eastern Time on Tuesday, February 15, 2011.

Take notice that the Commission received the following electric rate filings:

Docket Numbers: ER10-116-002.

Applicants: Trans Bay Cable LLC.

Description: Trans Bay Cable LLC submits its 10/23/09 filing to update its Cost of Service Rate pursuant to the 12/17/09 Order.

Filed Date: 01/21/2011.

Accession Number: 20110124-0002.

Comment Date: 5 p.m. Eastern Time on Friday, February 11, 2011.

Docket Numbers: ER10-2029-003; ER10-2036-001; ER10-2037-001; ER10-2039-001; ER10-2040-001; ER10-2041-001; ER10-2042-003; ER10-2043-001; ER10-2044-001; ER10-2051-001.

Applicants: Calpine Energy Services, L.P., Calpine Newark, LLC, Zion Energy LLC, Calpine Philadelphia Inc., Calpine Mid-Atlantic Marketing, LLC, Calpine Bethlehem, LLC, Calpine Mid-Atlantic Generation, LLC, Calpine Mid Merit, LLC, Calpine New Jersey Generation, LLC, Calpine Vineland Solar, LLC.

Description: Notification of Change in Status of Calpine Bethlehem, LLC, et al.

Filed Date: 01/24/2011.

Accession Number: 20110124-5246.

Comment Date: 5 p.m. Eastern Time on Monday, February 14, 2011.

Docket Numbers: ER10-2738-001.

Applicants: The Empire District Electric Company.

Description: Notice of Change in Status of The Empire District Electric Company.

Filed Date: 01/24/2011.

Accession Number: 20110124-5243.

Comment Date: 5 p.m. Eastern Time on Monday, February 14, 2011.

Docket Numbers: ER10-1362-001.

Applicants: Hatchet Ridge Wind, LLC.

Description: Amendment to Notice of Changes in Facts of Hatchet Ridge Wind, LLC.

Filed Date: 01/24/2011.

Accession Number: 20110124-5237.

Comment Date: 5 p.m. Eastern Time on Monday, February 14, 2011.

Docket Numbers: ER11-22-003.

Applicants: Midwest Independent Transmission System Operator, Inc.

Description: Midwest Independent Transmission System Operator, Inc. submits tariff filing per 35: H075 Errata to Compliance to be effective 10/5/2010.

Filed Date: 01/25/2011.

Accession Number: 20110125-5044.

Comment Date: 5 p.m. Eastern Time on Tuesday, February 15, 2011.

Docket Numbers: ER11-2705-001.

Applicants: California Independent System Operator Corporation.

Description: California Independent System Operator Corporation submits tariff filing per 35: 2011-01-20 CAISO Errata to RTPP Compliance Filing to be effective 12/20/2010.

Filed Date: 01/20/2011.

Accession Number: 20110120-5164.

Comment Date: 5 p.m. Eastern Time on Thursday, February 10, 2011.

Docket Numbers: ER11-2735-000.

Applicants: Censtar Energy Corp.

Description: Censtar Energy Corp. submits tariff filing per 35.12: Market-Based Rate Initial Tariff Baseline to be effective 3/28/2011.

Filed Date: 01/24/2011.

Accession Number: 20110124-5210.

Comment Date: 5 p.m. Eastern Time on Monday, February 14, 2011.

Docket Numbers: ER11-2736-000.

Applicants: Southwest Power Pool, Inc.

Description: Southwest Power Pool, Inc. submits tariff filing per 35.13(a)(2)(iii): Operational Constraint Violation Relaxation Limit Revisions to be effective 3/25/2011.

Filed Date: 01/24/2011.

Accession Number: 20110124-5220.

Comment Date: 5 p.m. Eastern Time on Monday, February 14, 2011.

Docket Numbers: ER11-2737-000.

Applicants: Public Service Company of Colorado.

Description: Public Service Company of Colorado submits tariff filing per 35.13(a)(2)(iii): 2011_1_24_293-PSCo_CGTRX_ Alamosa Solar E&P Agrmt to be effective 12/1/2010.

Filed Date: 01/24/2011.

Accession Number: 20110124-5223.

Comment Date: 5 p.m. Eastern Time on Monday, February 14, 2011.

Docket Numbers: ER11-2738-000.

Applicants: Duke Energy Ohio, Inc., Midwest Independent Transmission System.

Description: Duke Energy Ohio, Inc. submits tariff filing per 35.13(a)(2)(iii): DEO-AEP WDS Agreements x3 to be effective 1/1/2011.

Filed Date: 01/25/2011.

Accession Number: 20110125-5043.

Comment Date: 5 p.m. Eastern Time on Tuesday, February 15, 2011.

Docket Numbers: ER11-2739-000.

Applicants: ISO New England Inc.

Description: ISO New England Inc. submits tariff filing per 35.13(a)(2)(iii): Filing to Correct Tariff Record Language to be effective 8/30/2010.

Filed Date: 01/25/2011.

Accession Number: 20110125-5160.

Comment Date: 5 p.m. Eastern Time on Tuesday, February 15, 2011.

Docket Numbers: ER11-2740-000.

Applicants: Windy Flats Partners, LLC.

Description: Windy Flats Partners, LLC submits tariff filing per 35.1: Market-Based Rate Baseline Filing to be effective 1/25/2011.

Filed Date: 01/25/2011.

Accession Number: 20110125-5161.

Comment Date: 5 p.m. Eastern Time on Tuesday, February 15, 2011.

Docket Numbers: ER11-2741-000.

Applicants: CPV Batesville, LLC.

Description: CPV Batesville, LLC submits tariff filing per 35.12: Application for Market-Based Rate Authorization to be effective 2/1/2011.

Filed Date: 01/25/2011.

Accession Number: 20110125-5184.

Comment Date: 5 p.m. Eastern Time on Tuesday, February 15, 2011.

Docket Numbers: ER11-2742-000.

Applicants: GenOn West, LP.

Description: GenOn West, LP submits tariff filing per 35.13(a)(2)(iii): Notice of Succession to be effective 1/1/2011.

Filed Date: 01/25/2011.

Accession Number: 20110125-5220.

Comment Date: 5 p.m. Eastern Time on Tuesday, February 15, 2011.

Docket Numbers: ER11-2743-000.

Applicants: PJM Interconnection, L.L.C.

Description: PJM Interconnection, L.L.C. submits tariff filing per 35.13(a)(2)(iii): WMPA No. 2715, Queue No. V4-077, Sustainable Energy Holding, LLC & Penelec to be effective 12/29/2010.

Filed Date: 01/25/2011.

Accession Number: 20110125-5238.

Comment Date: 5 p.m. Eastern Time on Tuesday, February 15, 2011.

Docket Numbers: ER11-2744-000.

Applicants: Public Service Company of Colorado.

Description: Public Service Company of Colorado submits tariff filing per 35.13(a)(2)(iii): 2011-1-25_IBDRA_San Luis Solar E&P Agmt to be effective 1/26/2011.

Filed Date: 01/25/2011.

Accession Number: 20110125-5250.

Comment Date: 5 p.m. Eastern Time on Tuesday, February 15, 2011.

Docket Numbers: ER11-2745-000.

Applicants: PJM Interconnection, L.L.C.

Description: PJM Interconnection, L.L.C. submits tariff filing per 35.13(a)(2)(iii): WMPA No. 2714, Queue No. W2-056, Earl F. Stahl Jr. and PSE&G to be effective 12/20/2010.

Filed Date: 01/25/2011.

Accession Number: 20110125-5273.

Comment Date: 5 p.m. Eastern Time on Tuesday, February 15, 2011.

Docket Numbers: ER11-2746-000.

Applicants: GenOn Potrero, LLC.

Description: GenOn Potrero, LLC submits tariff filing per 35.15: Notice of Termination of RMR Agreement to be effective 2/28/2011.

Filed Date: 01/25/2011.

Accession Number: 20110125-5312.

Comment Date: 5 p.m. Eastern Time on Tuesday, February 15, 2011.

Docket Numbers: ER11-2747-000.

Applicants: ISO New England Inc.

Description: Resource Termination Filing (United Illuminating).

Filed Date: 01/25/2011.

Accession Number: 20110125-5325.

Comment Date: 5 p.m. Eastern Time on Tuesday, February 15, 2011.

Take notice that the Commission received the following land acquisition reports:

Docket Numbers: LA10-4-000.

Applicants: Astoria Generating, L.P.; Boston Generating, LLC; Fore River Development, LLC, Mystic I, LLC; Mystic Development.

Description: Quarterly Land Acquisition Form of Astoria Generating Company, L.P., et al.

Filed Date: 01/25/2011.

Accession Number: 20110125-5357.

Comment Date: 5 p.m. Eastern Time on Tuesday, February 15, 2011.

Take notice that the Commission received the following electric reliability filings:

Docket Numbers: RD11-2-000.

Applicants: North American Electric Reliability Corporation.

Description: Petition of the North American Electric Reliability Corporation for Approval of Proposed New Interconnection Reliability Operations and Coordination Reliability Standards, Glossary Term and Implementation Plan.

Filed Date: 01/13/2011.

Accession Number: 20110113-5138.

Comment Date: 5 p.m. Eastern Time on Monday, February 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-2149 Filed 1-31-11; 8:45 am]

BILLING CODE 6717-01-P